DEPARTMENT OF HOMELAND SECURITY

Coast Guard

33 CFR Part 117

[CGD08-05-017]

Drawbridge Operating Regulations; Pascagoula River, Pascagoula, MS

AGENCY: Coast Guard, DHS.

ACTION: Notice of temporary deviation from regulations.

SUMMARY: The Commander, Eighth Coast Guard District, has issued a temporary deviation from the regulation governing the operation of the CSX Transportation Railroad Bridge across the Pascagoula River, mile 1.5, at Pascagoula, Jackson County, Mississippi. This deviation allows the draw of the bascule span bridge to remain closed to navigation for nine hours per day Monday through Thursday from April 11 until April 14, 2005. The deviation is necessary to repair the drive motor and associated hydraulic components of the draw span operating mechanism.

DATES: This deviation is effective from 8 a.m. on Monday, April 11, 2005, until 6 p.m. on Thursday, April 14, 2005.

ADDRESSES: Materials referred to in this document are available for inspection or copying at the office of the Eighth Coast Guard District, Bridge Administration Branch, Hale Boggs Federal Building, Room 1313, 500 Poydras Street, New Orleans, Louisiana, 70130-3310 between 7 a.m. and 3 p.m., Monday through Friday, except Federal holidays. The telephone number is (504) 589-2965. The Bridge Administration Branch maintains the public docket for this temporary deviation.

FOR FURTHER INFORMATION CONTACT: Phil Johnson, Bridge Administration Branch, telephone (504) 589-2965.

SUPPLEMENTARY INFORMATION: The CSX Transportation Company has requested a temporary deviation in order to repair the main drive motor and associated hydraulic components of the operating mechanism of the CSX Transportation Railroad Bascule Span Bridge across the Pascagoula River, mile 1.5, at Pascagoula, Jackson County, Mississippi. Recently, the main drive motor failed, and the draw span is currently being operated with the auxiliary motor. The repairs are necessary for continued operation of the draw span. This temporary deviation will allow bridge to remain in the closed-to-navigation position from 8 a.m. until noon and from 1 p.m. until 6 p.m. Monday through Thursday from April 11, 2005 until April 14, 2005. There may be times, during the closure periods, when the draw will not be able to open for emergencies.

As the bridge has no vertical clearance in the closed-to-navigation position, vessels will not be able to transit through the bridge site when the bridge is closed. Navigation on the waterway consists of small cargo ships, tugs with tows, fishing vessels and recreational craft including sailboats and power boats. Due to prior experience, as well as coordination with waterway users, it has been determined that this closure will not have a significant effect on these vessels.

In accordance with 33 CFR 117.35(c), this work will be performed with all due speed in order to return the bridge to normal operation as soon as possible. This deviation from the operating regulations is authorized under 33 CFR 117.35.

Dated: March 22, 2005.
Marcus Redford,
Bridge Administrator.

[FR Doc. 05-6148 Filed 3-28-05; 8:45 am]

BILLING CODE 4910-15-P